DEPARTMENT OF TRANSPORTATION

Office of the Secretary

[Docket ID Number: DOT-OST-2014-0031]

Notice of Submission of Proposed Information Collection to OMB Agency Request for Renewal of a Previously Approved Collection: Airline Service Quality Performance—Part 234

AGENCY: Office of the Assistant Secretary for Research and Technology (OST-R), Bureau of Transportation Statistics (BTS), Department of Transportation (DOT).

ACTION: Notice and request for comments.

SUMMARY: In accordance with the Paperwork Reduction Act of 1995 (44 U.S.C. chapter 35, as amended) this notice announces DOT's intention to renew Office of Management and Budget (OMB) Control Number 2138-0041 covering Airline Service Quality Performance On-time Performance and Mishandled Baggage reports that the largest U.S. air carriers file with DOT under Part 234 of title 14, Code of Federal Regulations (CFR).

DATES: Comments on this notice must be received by October 12, 2021. Interested persons are invited to submit comments regarding this proposal.

ADDRESSES: To ensure that you do duplicate your docket submissions, please submit them by only one of the following means:

• Federal eRulemaking Portal: Go to http://www.regulations.gov and follow the online instructions for submitting comments. (You may access comments received for this notice at http://www.regulations.gov by searching docket DOT-OST-2014-0031.)

• Mail: Docket Management Facility, U.S. Department of Transportation, 1200 New Jersey Ave., SE, West Building Ground Floor Room W12-140, Washington, DC 20590-0001;

• Hand delivery: West Building Ground Floor, Room W12-140, 1200 New Jersey Ave. SE, between 9 a.m. and 5 p.m., Monday through Friday, except Federal holidays. The telephone number is 202-366-9329.

Privacy Act: Anyone is able to search the electronic form of all comments received into any of DOT's dockets by the name of the individual submitting the comment (or signing the comment, if submitted on behalf of an association, business, labor union, etc.). You may review DOT's complete Privacy Act Statement in the Federal Register published on April 11, 2000 (65 FR 19477-78).

FOR FURTHER INFORMATION CONTACT: Cecelia Robinson, Office of Airline Information, RTS-42, Room E34-410, OST-R, BTS, 1200 New Jersey Avenue SE, Washington, DC 20590-0001, Telephone Number (202) 366-4405 (voice), Fax Number (202) 366-3383 or Email cecelia.robinson@dot.gov.

SUPPLEMENTARY INFORMATION: DOT collects information regarding flight performance and mishandled baggage, wheelchairs, and scooters from the largest U.S. air carriers under 14 CFR part 234. The air carriers required to provide this information to DOT consist of the U.S. air carriers that accounted for at least 0.5 percent of domestic scheduled-passenger revenues (Reporting Carriers) as most recently determined by the DOT's Office of Airline Information. An air carrier that is not a Reporting Carrier may voluntarily submit the flight performance and mishandled baggage, wheelchairs, and scooters information to the Department pursuant to 14 CFR 234.7.

Specifically, Reporting Carriers must submit Part 234 On-time Performance reports to DOT with information on domestic flight operations and performance as described in 14 CFR 234.4.¹ In addition, under 14 CFR 234.6, Reporting Carriers must submit Part 234 Mishandled Baggage reports to DOT that include the following information for covered domestic flights: (1) The number of bags mishandled in its custody, (2) the number of bags enplaned into the aircraft cargo compartment, (3) the number of mishandled wheelchairs and scooters mishandled in its custody, and (4) the number of wheelchairs and scooters enplaned into the aircraft cargo compartment.² Each Reporting Carrier is required to report the flight performance and mishandled baggage, wheelchair, and scooter information to DOT on a monthly basis for the covered flights it operates and for any covered flights held out under the Reporting Carrier's code (as the only U.S. carrier code) and operated by a codeshare partner of the Reporting Carrier.

¹ The format and instructions for reporting this information are in Technical Reporting Directive #27—On-Time Performance, effective January 1, 2018, available at: https://cms7.bts.dot.gov/sites/bts.dot.gov/files/docs/explore-topics-and-geography/topics/airlines-and-airports/207741/technical-directive-no-27-time-2018.pdf.

² The format and instructions for reporting mishandled baggage and wheelchair and scooter information to DOT are in Technical Reporting Directive #30A—Mishandled Baggage and Wheelchairs and Scooters (Amended), effective January 1, 2019, available at: https://www.bts.dot.gov/sites/bts.dot.gov/files/docs/explore-topics-and-geography/topics/airlines-and-airports/224606/technicaldirective30abaggage2019amended.pdf.

DOT uses the information reported by airlines to provide airline performance information and statistics on the BTS website and in the Air Travel Consumer Report (ATCR), a monthly publication of DOT's Office of Aviation Consumer Protection (OACP). Air transportation consumers and other stakeholders use the information DOT publishes to understand and compare airlines' service quality performance, including airlines' rates of on-time performance and cancellation and rates of baggage and wheelchair and scooter mishandling.

DOT's Federal Aviation Administration (FAA) uses data reported by airlines in Part 234 On-time Performance reports to analyze air traffic delays. Wheels-up and wheels-down times are used by the FAA in conjunction with departure and arrival times to show the extent of ground delays. Actual elapsed flight time (wheels-down minus wheels-up time) is compared by the FAA to scheduled elapsed flight time to identify airborne delays. The reporting of the aircraft tail number allows the FAA to track an aircraft through the air network, which enables the FAA to study the ripple effects of delays at hub airports. The data can be analyzed by the FAA for airport design changes, new equipment purchases, and the planning of new runways or airports based on current and projected airport delays and traffic levels. The identification of the reason for delays allows the FAA, airport operators, and air carriers to pinpoint delays under their control.

DOT is publishing this notice to announce its intent to request extension of the previously approved information collections described above under OMB Control Number 2138-0041. Without further action, OMB authorization of the information collections would expire December 31, 2021.

The Paperwork Reduction Act of 1995 (PRA) and its implementing regulations, 5 CFR part 1320, require Federal agencies to issue two notices seeking public comment on information collection activities before OMB may approve paperwork packages. A Federal agency generally cannot conduct or sponsor a collection of information, and the public is generally not required to respond to an information collection, unless it is approved by the OMB under the PRA and displays a currently valid OMB Control Number. In addition, notwithstanding any other provisions of law, no person shall generally be subject to monetary penalty for failing to comply with a collection of information if the collection of information does not display a valid OMB Control Number. See 5 CFR 1320.5(a) and 1320.6.

For each of these information collections, the title, a description of the respondents, and an estimate of the annual recordkeeping and periodic reporting burden are set forth below.

1. Airline Service Quality Performance Reports—Part 234 On-Time Performance

Respondents: Certificated air carriers that account for at least 0.5 percent of the domestic scheduled-service passenger revenues are required to report flight performance data for flights that they operate as described in 14 CFR 234.4; Certificated air carriers that account for at least 0.5 percent of domestic scheduled-service passenger revenues that market code-share flights carrying the carrier's code as the only U.S. carrier code are required to report flight performance data for these code-share flights as described in 14 CFR 234.4; Air carriers may voluntarily report flight performance data pursuant to 14 CFR 234.7.

Estimated Number of Respondents: 17 air carriers (4 of which market codeshare flights).

Frequency: Monthly.

Estimated Average Burden per Response: 10 hours for each respondent to report for the flights operated by the respondent plus an additional 16 hours if the respondent reports for flights operated by code-share partners.

Estimated Total Annual Burden: 2,808 hours (17 air carriers reporting the flight performance information for the flights they operate × 10 hours per response × 12 months = 2,040 hours) + (4 air carriers reporting the flight performance information for flights operated by their codeshare partners × 16 hours per response × 12 months = 768 hours). This estimate is based on the following information: 17 carriers reported the flight performance data for the flights they operated to DOT in calendar year 2019, 2020, and 2021. Currently, 4 carriers report flight performance data to DOT for their codeshare operations.

DOT estimates that respondents will encounter on average a 10-hour burden per month to report flight performance data to DOT for the flights they operate. DOT estimates the respondents that market codeshare flights will encounter on average an additional burden of 16 hours per month to report flight performance data to DOT for their codeshare operations. The burden estimates include staff time to manage and process the data and to submit the report through DOT's electronic submission system.

2. Airline Service Quality Performance Reports—Part 234 Mishandled Baggage

Respondents: Certificated air carriers that account for at least 0.5 percent of the domestic scheduled-service passenger revenues are required to report mishandled baggage and wheelchairs and scooters data for flights that they operate as described in 14 CFR 234.6; Certificated air carriers that account for at least 0.5 percent of domestic scheduled-service passenger revenues that market code-share flights carrying the carrier's code as the only U.S. carrier code are required to report mishandled baggage and wheelchairs and scooters data for these code-share flights as described in 14 CFR 234.6; Air carriers may voluntarily report mishandled baggage and wheelchairs and scooters data pursuant to 14 CFR 234.7.

Estimated Number of Respondents: 17 air carriers (4 that market codeshare flights).

Frequency: Monthly.

Estimated Average Burden per Response: 10 hours for each respondent to report for the flights operated by the respondent plus an additional 16 hours if the respondent reports for flights operated by code-share partners.

Estimated Total Annual Burden: 2,825 hours (17 air carriers reporting the mishandled baggage and mishandled wheelchairs and scooters information for flights they operate × 10 hours per response × 12 months = 2,040 hours) + (4 air carriers reporting the mishandled baggage and mishandled wheelchairs and scooters information for flights operated by their codeshare partners × 16 hours per response × 12 months = 768 hours) + (.00138 hours for manual data entry related to wheelchair or scooters × 12,000 manual entries = 17 hours). This estimate is based on the following information: 17 Carriers reported mishandled baggage and wheelchair and scooter information to DOT in calendar year 2019, 2020, and 2021. Currently, 4 carriers report mishandled baggage and wheelchair and scooter information to DOT for their codeshare operations.

DOT estimates that respondents will encounter on average 10-hours burden per month to report the mishandled baggage and wheelchair and scooter data to DOT for the flights they operate. DOT estimates that respondents that market codeshare flights will encounter on average an additional burden of 16 hours per month to report the mishandled baggage and wheelchair and scooter data to DOT for their codeshare operations. The burden estimates include staff time to manage and process the data and to submit the report through DOT's electronic submission system.

In addition, the estimated total annual burden is based on the assumption that most respondents employ automated processes to record that an item enplaned is a wheelchair or scooter for the purposes of reporting data on wheelchairs and scooters to DOT. For a carrier that manually records this information, such as by having their agent type information describing a wheelchair or scooter into the airline's system, DOT estimates that the airline would spend approximately 5 seconds (.00138 hours) per item to manually enter the data.³ DOT estimates that 12,000 Wheelchairs and scooters total are recorded manually per year.

³ The Final Rule to Amend Rules Requiring Reporting of Mishandled Baggage, Regulatory Impact Analysis, October 18, 2016, estimated a data entry burden of 5 seconds per wheelchair or scooter recorded manually. See Docket No. RITA-2011-0001.

Administrative Issues

The Confidential Information Protection and Statistical Efficiency Act of 2002 (44 U.S.C. 3501) requires a statistical agency to clearly identify information it collects for non-statistical purposes. BTS hereby notifies the respondents and the public that BTS uses the information it collects under this OMB approval for non-statistical purposes including, but not limited to, publication of both respondent's identity and its data, submission of the information to agencies outside BTS for review, analysis and possible use in regulatory and other administrative matters.

Comments Invited

We invite comments on: (a) Whether the collection of information is necessary for the proper performance of the functions of DOT, including whether the information will have practical utility; (b) the accuracy of DOT's estimate of the burden of the proposed information collection; (c) ways to enhance the quality, utility and clarity of the information to be collected; and (d) ways to minimize the burden of the collection of information on respondents.

All responses to this notice will be summarized and included in the request for OMB approval. All comments will also become a matter of public record on the docket.

Issued at Washington, DC.
William A. Chadwick, Jr.,
Director, Office of Airline Information, Bureau of Transportation Statistics, Office of the Assistant Secretary for Research and Technology.

[FR Doc. 2021-17092 Filed 8-10-21; 8:45 am]

BILLING CODE 4910-9X-P